DEPARTMENT OF THE INTERIOR

U.S. Geological Survey

[USGS-GX12LR000F60100]

Agency Information Collection Activities: Comment Request for the Industrial Minerals Surveys (40 Forms)

AGENCY: U.S. Geological Survey (USGS), Interior.

ACTION: Notice of a revision of a currently approved information collection (1028-0062).

SUMMARY: We (the U.S. Geological Survey) will ask the Office of Management and Budget (OMB) to approve the information collection request (IC) described below. This collection consists of 40 forms. The revision includes adding USGS Form 9-4144-S; transferring USGS Form 9-4142-Q from Information Collection 1028-0065; and modifying the following forms: USGS Form 4004-A, USGS Form 9-4027-A, and USGS Form 9-4035-S. As required by the Paperwork Reduction Act (PRA) of 1995, and as part of our continuing efforts to reduce paperwork and respondent burden, we invite the general public and other Federal agencies to take this opportunity to comment on this IC. This collection is scheduled to expire on June 30, 2012.

DATES: To ensure that your comments on this IC are considered, we must receive them on or before April 9, 2012.

ADDRESSES: Please submit a copy of your comments to Shari Baloch, Information Collection Clearance Officer, U.S. Geological Survey, 12201 Sunrise Valley Drive, Mail Stop 807, Reston, VA 20192 (mail); (703) 648-7174 (telephone); (703) 648-7199 (fax); or smbaloch@usgs.gov (email). Reference Information Collection 1028-0062 in the subject line.

FOR FURTHER INFORMATION CONTACT: Carleen Kostick at (703) 648-7940 (telephone); ckostick@usgs.gov (email); or by mail at U.S. Geological Survey, 985 National Center, 12201 Sunrise Valley Drive, Reston, VA 20192.

SUPPLEMENTARY INFORMATION:

I. Abstract

Respondents will use these forms to supply the USGS with domestic production and consumption data of industrial mineral commodities, some of which are considered strategic and critical. This information will be published as chapters in Minerals Yearbook, monthly Mineral Industry Surveys, annual Mineral Commodity Summaries, and special publications, for use by Government agencies, industry, education programs, and the general public.

II. Data

OMB Control Number: 1028-0062.

Form Number: Various (40 forms).

Title: Industrial Minerals Surveys.

Type of Request: Revision of a currently approved collection.

Affected Public: Private sector: U.S. nonfuel minerals producers of industrial minerals; Public sector: State and local governments.

Respondent Obligation: Voluntary.

Frequency of Collection: Monthly, quarterly, semiannually, and annually.

Estimated Number of Annual Responses: 19,998.

Annual Burden Hours: 13,584 hours. We expect to receive 19,998 annual responses. We estimate an average of 10 minutes to 2 hours per response.

Estimated Reporting and Recordkeeping “Non-Hour Cost” Burden: We have not identified any “non-hour cost” burdens associated with this collection of information.

Public Disclosure Statement: The PRA (44 U.S.C. 3501, et seq.) provides that an agency may not conduct or sponsor a collection of information unless it displays a currently valid OMB control number and current expiration date.

III. Request for Comments

We invite comments concerning this IC on: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at anytime. While you can ask OMB in your comment to withhold your personal identifying information from public review, we cannot guarantee that it will be done.

Dated: February 1, 2012.
John H. DeYoung, Jr.,
Director, National Minerals Information Center, U.S. Geological Survey.

[FR Doc. 2012-2839 Filed 2-7-12; 8:45 am]

BILLING CODE 4311-AM-P